DEPARTMENT OF ENERGY

Federal Energy Regulatory Commission

Notice of Schedule for Environmental Review of the White Oak Mainline Expansion Project and System Reliability Project

| Docket Nos.
Eastern Shore Natural Gas Company | CP15-18-000 CP15-18-001 CP15-498-000

On November 21, 2014, Eastern Shore Natural Gas Company (Eastern Shore) filed an application in Docket No. CP15-18-000 requesting a Certificate of Public Convenience and Necessity pursuant to Section 7(c) of the Natural Gas Act to construct and operate certain natural gas pipeline facilities as part of the White Oak Mainline Expansion Project (White Oak Project) in Chester County, Pennsylvania, and New Castle County, Delaware. On November 18, 2015, Eastern Shore filed an amendment to its application in Docket No. CP15-18-001 to construct the Kemblesville Loop Alternative 2 along Eastern Shore's existing right-of-way. Also, on May 22, 2015, Eastern Shore filed an application in Docket No. CP15-498-000 requesting a Certificate of Public Convenience and Necessity pursuant to Section 7(c) of the Natural Gas Act to construct and operate certain natural gas pipeline facilities as part of the System Reliability Project in Kent, New Castle, and Sussex Counties, Delaware.

On December 8, 2014 and June 8, 2015, the Federal Energy Regulatory Commission (Commission or FERC) issued its respective Notice of Application for the White Oak Project and the System Reliability Project. On November 25, 2015, the Commission issued its Notice of Amendment to Application for the White Oak Project. Among other things, these notices alerted agencies issuing federal authorizations of the requirement to complete all necessary reviews and to reach a final decision on a request for a federal authorization within 90 days of the date of issuance of the Commission staff's Environmental Assessment (EA) for the projects. This instant notice identifies the FERC staff's planned schedule for the completion of the EA for the White Oak and System Reliability Projects. Staff is preparing a single EA for the two projects because of the proximity of the projects to each other and because the System Reliability Project assumes the prior completion of the White Oak Project, as stated in Eastern Shore's amended application.

Schedule for Environmental Review
Issuance of EA | April 12, 2016.
90-day Federal Authorization Decision Deadline | July 11, 2016.

If a schedule change becomes necessary, additional notice will be provided so that the relevant agencies are kept informed of the projects' progress.

Project Descriptions

The White Oak Project consists of 3.3 miles of 16-inch-diameter looping pipeline (the Daleville Loop) and 2.1 miles of 16-inch-diameter looping pipeline (Kemblesville Loop) in Chester County, Pennsylvania, and 3,550 horsepower of additional compression at Eastern Shore's existing Delaware City Compressor Station in New Castle County, Delaware. The White Oak Project would result in incremental expansion capacity sufficient to support Eastern Shore's agreement to provide 45,000 dekatherms per day of firm transportation service to Calpine Energy Services, L.P.'s Garrison Energy Center.

The System Reliability Project consists of 2.5 miles of 16-inch-diameter looping pipeline in New Castle County; about 7.6 miles of 16-inch-diameter looping pipeline in Kent County; installation of various appurtenant underground and aboveground facilities; and an additional 1,775 horsepower of compression at Eastern Shore's existing Bridgeville Compressor Station in Sussex County, all in Delaware. According to Eastern Shore, the System Reliability Project would increase the reliability of natural gas to Eastern Shore's existing customers during high demand winter months.

Background

On January 22, 2015, the Commission issued a Notice of Intent to Prepare an Environmental Assessment for the Proposed White Oak Mainline Expansion Project and Request for Comments on Environmental Issues (White Oak NOI). On July 9, 2015, the Commission issued a Supplemental White Oak NOI and opened a supplemental scoping period for the Kemblesville Loop Alternative 2 route. On September 4, 2015, the Commission issued a Notice of Intent to Prepare an Environmental Assessment for the Proposed System Reliability Project and Request for Comments on Environmental Issues (System Reliability NOI). The notices were sent to affected landowners; federal, state, and local government agencies; elected officials; environmental and public interest groups; other interested parties; and local libraries and newspapers. In response to the White Oak NOI, the Commission received environmental comments from the U.S. Fish and Wildlife Service, the Delaware Nation, the Franklin Township Historical Commission, the National Oceanic and Atmospheric Administration, the National Park Service, the Franklin Township, the Pennsylvania Department of Conservation and Natural Resources, the Chester County Water Resources Authority, and private landowners. The primary concerns raised were regarding wetland and waterbody impacts; impacts due to forest clearing; impacts on the White Clay Creek National Wild and Scenic River; impacts on watersheds within the project area; impacts on the Kemblesville Village Historic District; impacts on bog turtle habitat; cultural resources; alternative routes, including the Kemblesville Loop Alternative Route 2; old growth forested areas along the pipeline routes; pipeline safety; and pipeline installation within proximity to residences. In response to the System Reliability NOI, the Commission received comments from the National Park Service and landowners. The National Park Service noted potential impacts on the Bridgeville Playground, which was funded through a Land and Water Conservation Fund Grant. Landowners submitted comments about public safety; effects on private property; wetlands; the 100-year floodplain; noise; vibration from trains; property values; less expensive alternatives to the project; and whether the Porter Road Loop would be necessary for system reliability.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-18 or CP15-498), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Additional information about the White Oak and System Reliability Projects can be obtained by contacting the environmental project manager, Gertrude Johnson, by telephone at (202) 502-6692 or by electronic mail at gertrude.fernandez.johnson@ferc.gov.

Dated: February 10, 2016.
Nathaniel J. Davis, Sr.,
Deputy Secretary.

[FR Doc. 2016-03323 Filed 2-17-16; 8:45 am]

BILLING CODE 6717-01-P